DEPARTMENT OF ENERGY

Federal Energy Regulatory Commission

[Docket No. EL14-37-000]

PJM Interconnection, L.L.C.; Notice of Technical Conference

By order issued in this proceeding on August 29, 2014,¹ the Federal Energy Regulatory Commission (Commission) directed its staff to convene a technical conference concerning the justness and reasonableness of PJM Interconnection, L.L.C.'s (PJM) existing tariff provisions related to the Financial Transmission Rights (FTR) forfeiture rule and uplift allocations as applied to Up-to Congestion (UTC) transactions and virtual (INC/DEC) transactions.² The technical conference will explore whether: (1) PJM's FTR forfeiture rules as they apply to UTC transactions and INCs/DECs are just and reasonable; and (2) PJM's current uplift allocation rules associated with UTC transactions and INCs/DECs are just and reasonable. Take notice that the technical conference will be held on Wednesday, January 7, 2015 from 9:00 a.m. to 4:30 p.m. EST in the Commission Meeting Room at the Federal Energy Regulatory Commission, 888 First Street NE., Washington, DC 20426. Commission members may participate in the technical conference.

¹ PJM Interconnection, L.L.C., 148 FERC ¶ 61,144 (2014).

² An INC is a virtual offer to sell energy at a specified source bus in the PJM day-ahead market. A DEC is a virtual bid to purchase energy at a specified sink bus in the PJM day-ahead market. See id. P 1, n.3.

The technical conference will be open for the public to attend. Advance registration is not required, but is encouraged. Attendees may register at the following Web page: https://www.ferc.gov/whats-new/registration/01-07-15-form.asp.

Those wishing to participate in the program for this event should nominate themselves through the on-line registration form no later than November 14, 2014 at the following Web page: https://www.ferc.gov/whats-new/registration/01-07-15-speaker-form.asp. At this Web page, please provide an abstract (1,500 character limit) of the issue(s) you propose to address. Due to time constraints, we may not be able to accommodate all those interested in speaking.

Further details and a formal agenda will be issued prior to the technical conference.

Information on this event will be posted on the Calendar of Events on the Commission's Web site, www.ferc.gov, prior to the event. The technical conference will also be Webcast and transcribed. Anyone with Internet access who desires to listen to this event can do so by navigating to the Calendar of Events at www.ferc.gov and locating this event in the Calendar. The event will contain a link to the Webcast. The Capitol Connection provides technical support for Webcasts and offers the option of listening to the meeting via phone-bridge for a fee. If you have any questions, visit www.CapitolConnection.org or call 703-993-3100.

Commission technical conferences are accessible under section 508 of the Rehabilitation Act of 1973. For accessibility accommodations, please send an email to accessibility@ferc.gov or call toll free 1-866-208-3372 (voice) or 202-502-8659 (TTY), or send a FAX to 202-208-2106 with the required accommodations.

For further information on this technical conference, please contact:

Sarah McKinley (Logistical Information), Office of External Affairs, Federal Energy Regulatory Commission, 888 First Street NE., Washington, DC 20426, (202) 502-8368, sarah.mckinley@ferc.gov.

Carmen Gastilo Machuga (Legal Information), Office of the General Counsel, Federal Energy Regulatory Commission, 888 First Street NE., Washington, DC 20426, (202) 502-8657, carmen.gastilo@ferc.gov.

William Sauer (Technical Information), Office of Energy Policy and Innovation, Federal Energy Regulatory Commission, 888 First Street NE., Washington, DC 20426, (202) 502-6639, william.sauer@ferc.gov.

Cathleen Colbert (Technical Information), Office of Enforcement, Federal Energy Regulatory Commission, 888 First Street NE., Washington, DC 20426, (202) 502-8997, cathleen.colbert@ferc.gov.

Dated: October 31, 2014. .
Nathaniel J. Davis, Sr.,
Deputy Secretary.

[FR Doc. 2014-26571 Filed 11-7-14; 8:45 am]

BILLING CODE 6717-01-P